NUCLEAR REGULATORY COMMISSION

[Docket No. 50-255-LA; ASLBP No. 15-936-03-LA-BD01]

Entergy Nuclear Operations, Inc.; Establishment of Atomic Safety and Licensing Board

Pursuant to delegation by the Commission, see 37 FR 28,710 (Dec. 29, 1972), and the Commission's regulations, see, e.g., 10 CFR 2.104, 2.105, 2.300, 2.309, 2.313, 2.318, 2.321, notice is hereby given that an Atomic Safety and Licensing Board (Board) is being established to preside over the following proceeding: Entergy Nuclear Operations, Inc. (Palisades Nuclear Plant).

This proceeding involves an application by Entergy Nuclear Operations, Inc. (Entergy) for a license amendment for Palisades Nuclear Plant, located in Van Buren County, Michigan. In response to a notice filed in the Federal Register, see 79 FR 58,812 (Sept. 30, 2014), a Petition to Intervene was filed on December 1, 2014 by Beyond Nuclear, Don't Waste Michigan, Michigan Safe Energy Future—Shoreline Chapter, and the Nuclear Energy Information Service.

The Board is comprised of the following administrative judges:

Ronald M. Spritzer, Chairman, Atomic Safety and Licensing Board Panel, U.S. Nuclear Regulatory Commission, Washington, DC 20555-0001.

Dr. Gary S. Arnold, Atomic Safety and Licensing Board Panel, U.S. Nuclear Regulatory Commission, Washington, DC 20555-0001.

Dr. Thomas J. Hirons, Atomic Safety and Licensing Board Panel, U.S. Nuclear Regulatory Commission, Washington, DC 20555-0001.

All correspondence, documents, and other materials shall be filed in accordance with the NRC E-Filing rule. See 10 CFR 2.302.

Rockville, Maryland.
Dated: December 17, 2014.
E. Roy Hawkens,
Chief Administrative Judge, Atomic Safety and Licensing Board Panel.

[FR Doc. 2014-30060 Filed 12-22-14; 8:45 am]

BILLING CODE 7590-01-P